DEPARTMENT OF THE TREASURY

Fiscal Service

Surety Companies Acceptable on Federal Bonds—Terminations: Acadia Insurance Company, Lexington Insurance Company, Union Insurance Company

AGENCY: Financial Management Service, Fiscal Service, Department of the Treasury.

ACTION: Notice.

SUMMARY: This is Supplement No. 16 to the Treasury Department Circular 570, 2008 Revision, published June 30, 2008, at 73 FR 37644.

FOR FURTHER INFORMATION CONTACT: Surety Bond Branch at (202) 874-6850.

SUPPLEMENTARY INFORMATION: Notice is hereby given that the Certificates of Authority issued by the Treasury to the above-named companies under 31 U.S.C. 9305 to qualify as acceptable sureties on Federal bonds were terminated effective June 30, 2009. Federal bond-approving officials should annotate their reference copies of the Treasury Department Circular 570 (“Circular”), 2008 Revision, to reflect this change.

With respect to any bonds currently in force with these companies, bond approving officers may let such bonds run to expiration and need not secure new bonds. However, no new bonds should be accepted from these companies, and bonds that are continuous in nature should not be renewed.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: June 23, 2009.
Rose M. Miller,
Acting Director, Financial Accounting and Services Division.

[FR Doc. E9-15633 Filed 7-1-09; 8:45 am]

BILLING CODE 4810-35-M